DEPARTMENT OF HEALTH AND HUMAN SERVICES

[Document Identifier OS-0990-New]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Research Mentoring Dyad: Comparing the Views of Faculty Advisors/Mentors and Their Ph.D. Students on Training/Learning to Be a Responsible Researcher—OMB No. 0990-New—Office of Research Integrity (ORI).

Abstract: This effort is consistent with the directive to ORI to “focus more on preventing misconduct and promoting research integrity” (Federal Register: May 12, 2000, Volume 65, Number 93). Study results will be used to promote mentoring best practices, in particular for the responsible conduct of research, by raising awareness of the role of faculty members in developing young scientists, promoting discussion in the scientific community, and informing institutions on where and how to focus resources from the unique perspective of both faculty and doctoral student. To gather information to promote ORI's objectives, this study will use in-depth personal interviews with 100 faculty who participated in the ORI Faculty Survey and agreed to be re-contacted and 100 matched doctoral students who have graduated in the last five years. These one-time interviews will be used to find out how faculty and their students view the training and education of responsible researchers. Interviews with matched faculty/doctoral student pairs will provide a unique opportunity to compare these two perspectives and will strengthen and elaborate on the ORI Faculty Survey results.

Estimated Annualized Burden Table
Forms | Type of respondent | Number of respondents | Number of responses per respondent | Average burden hours per response | Total burden hours
Interview Protocol | Faculty | 100 | 1 | 2 | 200
Interview Protocol | Doctoral Student Graduates | 100 | 1 | 2 | 200
Total |  |  |  |  | 400

Seleda Perryman,
Office of the Secretary, Paperwork Reduction Act Reports Clearance Officer.

[FR Doc. E9-25028 Filed 10-16-09; 8:45 am]

BILLING CODE 4150-31-P